DEPARTMENT OF ENERGY

Federal Energy Regulatory Commission

Combined Notice of Filings #1

September 19, 2006.

Take notice that the Commission received the following electric corporate filings:

Docket Numbers: EC06-126-000.

Applicants: Boston Edison Company; Commonwealth Electric Company; Canal Electric Company; Cambridge Electric Light Company.

Description: Commonwealth Electric Company, et al. submit a response to the Commission's 8/25/06 deficiency letter.

Filed Date: 9/14/2006.

Accession Number: 20060914-5034.

Comment Date: 5 p.m. Eastern Time on Thursday, October 5, 2006.

Take notice that the Commission received the following exempt wholesale generator filings:

Docket Numbers: EG06-80-000.

Applicants: Hawks Nest Hydro LLC.

Description: Hawks Nest Hydro, LLC Submits its Notice of Self-Certification of Exempt Wholesale Generator Status.

Filed Date: 9/01/2006.

Accession Number: 20060907-0165.

Comment Date: 5 p.m. Eastern Time on Monday, October 2, 2006.

Docket Numbers: EG06-81-000.

Applicants: MinnDakota Wind LLC.

Description: MinnDakota Wind LLC submits Notice of Self-Certification of Exempt Wholesale Generator Status pursuant to 18 CFR, Section 266.7.

Filed Date: 9/8/2006.

Accession Number: 20060918-0374.

Comment Date: 5 p.m. Eastern Time on Friday, September 29, 2006.

Take notice that the Commission received the following electric rate filings:

Docket Numbers: ER98-3760-014.

Applicants: California Independent System Operator Corporation.

Description: California Independent System Operator Corp submits a report concerning the issue of allowing multiple Scheduling Coordinators use of a single meter under ER98-3760.

Filed Date: 9/7/2006.

Accession Number: 20060919-0084.

Comment Date: 5 p.m. Eastern Time on Thursday, September 28, 2006.

Docket Numbers: ER99-1757-012; EL05-67-002; ER06-1312-001.

Applicants: Empire District Electric Company.

Description: The Empire District Electric Co submits its Fourth Revised Sheet 1 to FERC Electric Tariff, First Revised Volume 1, effective 5/16/05.

Filed Date: 9/14/2006.

Accession Number: 20060918-0382.

Comment Date: 5 p.m. Eastern Time on Thursday, October 5, 2006.

Docket Numbers: ER03-515-001.

Applicants: Black Oak Capital, LLC.

Description: Black Oak Capital, LLC submits its triennial updated market analysis.

Filed Date: 9/13/2006.

Accession Number: 20060918-0375.

Comment Date: 5 p.m. Eastern Time on Wednesday, October 4, 2006.

Docket Numbers: ER06-788-003; ER06-186-002.

Applicants: Southern California Edison Company.

Description: Southern California Edison Co submits a filing in compliance with FERC's 8/14/06 Order and revisions to the rate sheets to reflect the Order and recent approval of their Offer of Settlement under ER06-788.

Filed Date: 9/11/2006.

Accession Number: 20060915-0003.

Comment Date: 5 p.m. Eastern Time on Monday, October 2, 2006.

Docket Numbers: ER06-1083-001; ER06-1083-002.

Applicants: PJM Interconnection, LLC.

Description: PJM Interconnection LLC submits a service agreement, Substitute Original Service Agreement No. 1493 and submit an amendment to this filing on 9/14/06, Second Substitute Original Service Agreement No. 1493.

Filed Date: 9/13/2006; 9/14/2006.

Accession Number: 20060918-0376.

Comment Date: 5 p.m. Eastern Time on Wednesday, October 4, 2006.

Docket Numbers: ER06-1367-001.

Applicants: BG Dighton Power, LLC.

Description: BG Dighton Power LLC submits an amendment to its application for market-based rate authority filed 8/15/06.

Filed Date: 9/15/2006.

Accession Number: 20060918-0384.

Comment Date: 5 p.m. Eastern Time on Friday, October 6, 2006.

Docket Numbers: ER06-1421-001.

Applicants: The Clearing Corporation.

Description: The Clearing Corp submits its a revised application for market based rate authorizations to modify Sections 1 and 2 of the proposed Tariff, Original No. 1.

Filed Date: 9/15/2006.

Accession Number: 20060919-0085.

Comment Date: 5 p.m. Eastern Time on Friday, October 6, 2006.

Docket Numbers: ER06-1486-000.

Applicants: Nevada Power Company; Sierra Pacific Resources Operating Company.

Description: Nevada Power Co and Sierra Pacific Gas and Electric Co submits revisions to the Sierra Pacific Resources Operating Companies' OAT Tariff, FERC Electric Tariff, Third Revised Volume 1.

Filed Date: 9/13/2006.

Accession Number: 20060915-0002.

Comment Date: 5 p.m. Eastern Time on Wednesday, October 4, 2006.

Docket Numbers: ER06-1487-000; ER06-1487-001.

Applicants: Midwest Independent Transmission System Operator, Inc.

Description: Midwest Independent Transmission System Operator Inc submits a Small Generation Interconnection Agreement with Ewington Energy System LLC and Great River Energy and submit an errata to this filing on 9/15/06.

Filed Date: 9/13/2006; 9/15/2006.

Accession Number: 20060915-0001; 20060919-0083.

Comment Date: 5 p.m. Eastern Time on Wednesday, October 4, 2006.

Docket Numbers: ER06-1488-000.

Applicants: Oklahoma Gas and Electric Company.

Description: Oklahoma Gas and Electric Co submits revised pages to its OAT Tariff, Third Revised Volume No. 2.

Filed Date: 9/13/2006.

Accession Number: 20060918-0377.

Comment Date: 5 p.m. Eastern Time on Wednesday, October 4, 2006.

Docket Numbers: ER06-1489-000.

Applicants: S.A.C. Energy Investments, L.P.

Description: SAC Energy Investments, LP submits its application for order accepting initial rate schedule, waiving regulations and granting blanket approvals.

Filed Date: 9/13/2006.

Accession Number: 20060918-0378.

Comment Date: 5 p.m. Eastern Time on Wednesday, October 4, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-15802 Filed 9-26-06; 8:45 am]

BILLING CODE 6717-01-P